DEPARTMENT OF HEALTH AND HUMAN SERVICES

Health Resources and Services Administration

Notice of Availability of Draft Policy Document for Comment

AGENCY: Health Resources and Services Administration (HRSA), HHS.

ACTION: This is a Notice of Availability and request for comments on a draft Agency Guidance (“Policy Information Notice” (PIN)) to clarify the scope of Federal Torts Claims Act (FTCA) coverage for FTCA-deemed Health Center Program grantees during an emergency. The PIN, “Federal Tort Claims Act Coverage for Health Center Program Grantees Responding to Emergencies” (“FTCA PIN”) is available on the Internet at http://bphc.hrsa.gov.

DATES: Comments must be received by May 31, 2007.

ADDRESSES: Please send your comments to the following e-mail address: DPDgeneral@hrsa.gov.

SUMMARY: HRSA believes that community input is valuable to the development of policies and policy documents related to the implementation of primary health care programs, including the Health Center Program. Therefore, we are requesting comments on the PIN referenced above. After review and consideration of all comments received, the PIN may be amended to incorporate certain recommendations from the public. Once the PIN is finalized, it will be made available on HRSA's Web site, along with the Agency's “Response to Public Comments.” That document will summarize the major comments received and describe the Agency's response, including any corresponding changes made to the PIN. Where comments do not result in a revision to the PIN, explanations will be provided.

Background

HRSA administers the Health Center Program, which supports more than 3,800 health care delivery sites, including community health centers, migrant health centers, health care for the homeless centers, and public housing primary care centers. Health centers serve clients that are primarily low-income and minorities, and deliver preventive and primary care services to patients regardless of their ability to pay. Charges for health care services are set according to income.

FTCA medical malpractice coverage for Health Center Program grantees was initially legislated through the Federally Supported Health Centers Assistance Act (FSHCAA) of 1992. The FSHCAA of 1995 clarified the 1992 Act and eliminated its sunset provision, making the program permanent. FSCHAA authorizes Health Center Program grantees (and their officers, directors, employees, and certain contractors) to be deemed as Federal employees for the purpose of medical malpractice protection. As Federal employees, these organizations and individuals are immune from medical malpractice suits for actions within the scope of their project and employment. In the event that a medical malpractice lawsuit is filed against a deemed entity or covered physician acting within the scope of his/her employment in grant-related activities, the United States is substituted for the deemed entity and the covered employee.

HRSA recognizes that, during an emergency, FTCA-deemed health centers are likely to participate in medical response efforts. HRSA has received numerous requests for clarification regarding the scope of FTCA coverage during emergencies. The purpose of the FTCA PIN is to respond to these requests for clarification and to address frequently asked FTCA questions.

FOR FURTHER INFORMATION CONTACT: For questions regarding this notice, please contact Shannon Dunne Faltens at 301-594-4060.

Dated: March 29, 2007.
Elizabeth M. Duke,
Administrator.

[FR Doc. E7-6366 Filed 4-4-07; 8:45 am]

BILLING CODE 4165-15-P